DEPARTMENT OF TRANSPORTATION

Federal Highway Administration

23 CFR Parts 470, 635 and 655

[FHWA Docket No. FHWA-2020-0001]

RIN 2125-AF85

National Standards for Traffic Control Devices; the Manual on Uniform Traffic Control Devices for Streets and Highways; Revision

AGENCY: Federal Highway Administration (FHWA), U.S. Department of Transportation (DOT).

ACTION: Proposed rule; notice of proposed amendments; correction (NPA).

SUMMARY: The Manual on Uniform Traffic Control Devices for Streets and Highways (MUTCD) is incorporated in FHWA regulations and recognized as the national standard for traffic control devices used on all public roads. FHWA recently published its NPA and placed supplemental documents to the docket for the rulemaking. Two of the supplemental documents contained the same drafting error. By this notice FHWA is correcting that error and providing public notice of the revised documents.

DATES: December 29, 2020.

FOR FURTHER INFORMATION CONTACT: Mr. Kevin Sylvester, Office of Transportation Operations, (202) 366-2161, Kevin.Sylvester@dot.gov, or Mr. William Winne, Office of the Chief Counsel, (202) 366-1397, William.Winne@dot.gov, Federal Highway Administration, 1200 New Jersey Avenue SE, Washington, DC 20590.

SUPPLEMENTARY INFORMATION:

Electronic Access and Filing

This document and all comments received may be viewed online through the Federal eRulemaking portal at http://www.regulations.gov. The website is available

24 hours each day, 365 days each year. An electronic copy of this document may also be downloaded by accessing the Office of the Federal Register's home page at: https://www.federalregister.gov.

Background

FHWA published its NPA proposing changes to the MUTCD on December 14, 2020, at 85 FR 80898. FHWA published several supplemental documents to the docket for this rulemaking to aid the public review of the proposals described in the NPA. Two of those documents, “MUTCD 11ed NPA Text-Mark-up.pdf” and “MUTCD 11ed NPA Text-Clean.pdf,” contained a drafting error which suggests that FHWA is making a change to the text that was neither intended nor described in the NPA document. The phrase “shall not” was inadvertently included in a proposed editorial deletion in the Standard statement of proposed Section 9A.01. This error has been corrected and FHWA has placed the updated version of MUTCD Proposed Text.pdf to the docket.

Nicole R. Nason,
Administrator, Federal Highway Administration.

[FR Doc. 2020-28494 Filed 12-28-20; 8:45 am]

BILLING CODE 4910-22-P